DEPARTMENT OF JUSTICE

Antitrust Division

Notice Pursuant to the National Cooperative Research and Production Act of 1993—Joint Research and Development Program for the Advancement of In Situ Bioremediation Technologies

Notice is hereby given that, on August 1, 2005, pursuant section 6(a) of the National Cooperative Research and Production Act of 1993, 15 U.S.C. 4301 et seq. (“the Act”), Joint Research and Development Program for the Advancement of In Situ Bioremediation Technologies (“Bioremediation Consortium”) has filed written notifications simultaneously with the Attorney General and the Federal Trade Commission disclosing changes in its membership. The notifications were filed for the purpose of extending the Act's provisions limiting the recovery of antitrust plaintiffs to actual damages under specified circumstances. Specifically, Honeywell International Inc., Phoenix, AZ has been added as a party to this venture. Also, W.S. Atkins Consultants Ltd., Epsom, United Kingdom has withdrawn as a party to this venture.

No other changes have been made in either the membership or planned activity of the group research project. Membership in this group research project remains open, and Bioremediation Consortium intends to file additional written notification disclosing all changes in membership.

On March 11, 2005, Bioremediation Consortium filed its original notification pursuant to section 6(a) of the Act. The Department of Justice published a notice in the Federal Register pursuant to section 6(b) of the Act on April 19, 2005 (70 FR 20400).

Dorothy B. Fountain,
Deputy Director of Operations Antitrust Division.

[FR Doc. 05-16957 Filed 8-25-05; 8:45 am]

BILLING CODE 4410-11-M